DEPARTMENT OF JUSTICE

Office of Juvenile Justice and Delinquency Prevention

[OJP(OJJDP)-1336]

Program Announcement for Nonparticipating State Program, Wyoming

AGENCY: Office of Justice Programs, Office of Juvenile Justice and Delinquency Prevention, Justice.

ACTION: Notice of issuance of competitive program announcement.

SUMMARY: Notice is hereby given that the Office of Juvenile Justice and Delinquency Prevention (OJJDP), pursuant to the provisions of section 223(d) of the Juvenile Justice and Delinquency Prevention Act of 1974, as amended, 42 U.S.C. 5601 et seq. (hereinafter the JJDP Act), is issuing a program announcement and solicitation for applications from nonprofit agencies operating statewide in the State of Wyoming. Because Wyoming does not participate in the JJDP Act, the State is not eligible to receive its fiscal year (FY) 1998, FY 1999, and FY 2000 Formula Grants program allocations under Part B of Title II of the JJDP Act, which total $1,851,050 ¹ and which are available to be competitively awarded through the Nonparticipating State Program. Eligible applicants are limited to private nonprofit agencies operating statewide that propose innovative service delivery programs designed to provide placement alternatives to existing secure confinement placements that are not consistent with the core protections of the JJDP Act. Applicants must currently be operating in the State, and their proposed programs must directly impact the core protections of the JJDP Act. Such agencies are eligible to receive assistance awards to be expended over a 2-year period. Of the total amount available, a minimum of $1,480,840 must be used by the applicant to contract with local public or private nonprofit agencies for local community-based placement alternatives to adult jails and lockups for both delinquent and status offender populations, and up to $370,210 may be retained by the applicant to manage the contracts and provide technical assistance to and coordination among the local contractors funded under the Nonparticipating State Program.

¹ State allocations of $650,000 (FY 1998), $649,000 (FY 1999), and $648,000 (FY 2000) minus $95,950 which has been awarded directly to the Wyoming Department of Family Services for the support of the activities of the Wyoming State Advisory Group Council on Juvenile Justice.

The recipient will be required to contract with Indian tribes, at a minimum, the same amount that the State of Wyoming would have been required to pass-through to tribes under section 223(a)(5)(C) of the JJDP Act ($23,049). The financial assistance provided under this program requires no matching contribution in accordance with Part C of Title II of the JJDP Act.

DATES: Applications must be received by November 21, 2001.

ADDRESSES: All application packages should be mailed or delivered to the State and Tribal Assistance Division, Office of Juvenile Justice and Delinquency Prevention, 810 Seventh Street, NW., Washington, DC 20531; 202-307-5924. (Please note that this address is different from the one listed in the 2001 OJJDP Application Kit.) Faxed or e-mailed applications will not be accepted. Interested applicants can obtain the 2001 OJJDP Application Kit from the Juvenile Justice Clearinghouse at 800-638-8736. The Kit is also available at OJJDP's Web site at http://www.ncjrs.org/pdffiles1/ojjdp/s1000480.pdf.

FOR FURTHER INFORMATION CONTACT: Timothy S. Wight, Compliance Monitoring Coordinator, State and Tribal Assistance Division, Office of Juvenile Justice and Delinquency Prevention, 810 Seventh Street, NW., Washington, DC 20531, 202-307-5924, e-mail: WightT@ojp.usdoj.gov.

SUPPLEMENTARY INFORMATION:

Purpose

The JJDP Act, as amended through 1992, establishes four core protections. The core protections are the deinstitutionalization of status offenders, removal of juveniles from adult jails and lockups, separation of juveniles and adults in institutions, and reduction of disproportionate minority confinement, where it exists. Meeting the core protections is essential to creating a fair and consistent juvenile justice system that advances an important goal of the JJDP Act: To increase the effectiveness of juvenile delinquency prevention and control. The purpose of this program is to assist Wyoming in developing a range of secure and nonsecure alternatives and revising associated policies to ensure that the core protections are met.

Background

JJDP Act Statutory Requirement

Pursuant to section 223(d) of the JJDP Act, if a State chooses not to submit a Formula Grants Program plan, fails to submit a plan, or submits a plan which does not meet the requirements of the JJDP Act, the OJJDP Administrator shall endeavor to make the Formula Grants Program fund allotment, under section 222(a) of the JJDP Act, available to private nonprofit agencies within the State. The funds must be used solely for the purpose of achieving compliance with the following JJDP Act core protections:

1. Section 223(a)(12)(A) requires that juveniles who are charged with or who have committed offenses that would not be criminal if committed by an adult or offenses (other than an offense that constitutes a violation of a valid court order or a violation of section 922(x) of Title 18 or a similar State law), or alien juveniles in custody, or such nonoffenders as dependent or neglected children, shall not be placed in secure detention facilities or secure correctional facilities.

2. Section 223(a)(13) provides that juveniles alleged to be or found to be delinquent, and those within the purview of section 223(a)(12)(A) above shall not be detained or confined in any institution in which they have contact with adult persons incarcerated because they have been convicted of a crime or are awaiting trial on criminal charges or with the part-time or full-time security staff (including management) or direct-care staff of a (collocated) jail or lockup for adults.

3. Section 223(a)(14) provides that no juvenile shall be detained or confined in any jail or lockup for adults, except that the Administrator shall promulgate regulations which make exceptions with regard to the detention of juveniles accused of nonstatus offenses who are awaiting an initial court appearance pursuant to an enforceable State law requiring such appearances within 24 hours after being taken into custody (excluding weekends and holidays) provided that such exceptions are limited to areas that are in compliance with section 223(a)(13), above; and

a. (1) Are outside a Standard Metropolitan Statistical Area; and

(2) Have no existing acceptable alternative placement available; or

b. Are located where conditions of distance to be traveled or the lack of highway, road, or other ground transportation do not allow for court appearances within 24 hours, so that a brief (not to exceed 48 hours) delay is excusable; or

c. Are located where conditions of safety exist (such as severely adverse, life-threatening weather conditions that do not allow for reasonably safe travel), in which case the time for an appearance may be delayed until 24 hours after the time that such conditions allow for reasonably safe travel.

For further information and explanation of regulatory exceptions to the provisions of section 223(a)(12)(A), (13), and (14), see the OJJDP Consolidated Regulation, 28 CFR part 31, § 31.303 (c-e) substantive requirements. Copies of the Consolidated Regulation may be obtained by contacting the Office of Juvenile Justice and Delinquency Prevention at 202-307-5924.

History

Wyoming historically has not been able to successfully address the core protections of the JJDP Act due to State laws that sanction violations, a lack of local policies that promote the coordination of available resources, and a limited number of alternative resources available to communities. Due to the State's inability to address the core protections of the JJDP Act, the State of Wyoming did not submit a Formula Grants Program plan for the FY 1998, FY 1999 and FY 2000 Formula Grants program allocations.

Goal

In accordance with section 223(d) of the JJDP Act, the goal of this program is to assist Wyoming in developing a range of secure and nonsecure alternatives and revising associated policies to ensure the core protections of section 223(a)(12)(A), (13) and (14) are met.

Objectives

Local jurisdictions may be using secure facilities to detain or confine juveniles in a manner inconsistent with section 223(a)(12)(A), (13), and (14). To address this, the following objectives would be met:

1. Develop local and statewide policies regarding the issues of juveniles in secure confinement consistent with section 223(a)(13) and (14) and the secure confinement of status offender juveniles in violation of section 223(a)(12)(A) of the JJDP Act.

2. Increase coordination and cooperation among juvenile justice system agencies including schools, law enforcement, prosecution, the judiciary, jails, corrections, public and private service providers, and local public interest groups. Lack of coordination and cooperation often contributes to placement of juveniles in jails and lockups in violation of section 223(a)(12)(A), (13), and (14) of the JJDP Act.

3. Create a flexible network of services and programs that is responsive to local jurisdictions' needs and capabilities. This network should focus on jurisdictions with the most difficult barriers to meeting the core protections of the JJDP Act.

4. Create alternative services that can be sustained over time with local resources including, but not limited to:

a. Availability of appropriate secure juvenile facilities for the detention of juvenile criminal-type offenders.

b. Intensive supervision in a child's home as a placement alternative and use of home detention, including electronic monitoring, when safe and appropriate.

c. Emergency foster care, shelter care, group care, and independent living arrangements.

d. Crisis intervention services, short-term residential crisis intervention programs, and nonsecure holdovers that can be used for conflict mediation, emergency holding, and provision of emergency attention for youth with physical or emotional problems.

Program Strategy

OJJDP will select one applicant from nonprofit agencies operating Statewide in the State of Wyoming and award a $1,851,050 cooperative agreement for a 2-year project period.

Eligibility Requirements

OJJDP invites applications from local public and private nonprofit agencies operating statewide in the State of Wyoming. When submitting joint applications with more than one organization, the parties must set forth their relationships in the application. As a general rule, organizations that describe their working relationship as primarily cooperative or collaborative when developing products and delivering services will be considered coapplicants. In the event of a coapplicant submission, one coapplicant must be designated the payee and, as such, will receive and disburse project funds and be responsible for the supervision and coordination of the activities of the other coapplicant. Under this arrangement, each organization would agree to be jointly and separately responsible for all project funds and services. Each coapplicant must sign Standard Form 424, Application for Federal Assistance, and indicate its acceptance of the conditions of joint and separate responsibility with the other coapplicant.

Selection Criteria

Applicants will be evaluated and rated by a peer review panel according to the criteria outlined below.

Problem To Be Addressed (15 points)

The applicant must demonstrate a clear understanding of the core protections of the JJDP Act and the manner in which the core protections are currently being addressed or not addressed in jurisdictions throughout the State.

Goals and Objectives (15 points)

The applicant must clearly outline the specific goals and objectives to be achieved by the project. Simply restating the goals and objectives given in this solicitation is not adequate.

Project Design (30 points)

The project design must describe how the applicant will have an effect on the following:

1. State laws impacting the placement of juveniles in adult jails and lockups and status offenders and nonoffenders in secure detention or correctional facilities and the issues surrounding the removal of such juveniles from the facilities.

2. State and local jurisdictions' compliance in relation to the measurable core protections of the JJDP Act where the applicant is proposing to contract for the development of alternative placements to adult jails and lockups.

3. State legislative, judicial, and executive branch activities related to supervision and protection of status offenders and nonoffenders and jail removal.

4. The ability of the State and local jurisdictions to meet the core protections of the JJDP Act by providing community-based alternative placements to adult jails and lockups.

5. Establishment and maintenance of a working relationship between the applicant and the Wyoming State Advisory Group and the Wyoming Department of Family Services, Division of Juvenile Services in order to coordinate efforts and enhance the project's statewide efforts to meet the JJDP Act core protections.

Management and Organizational Capability (30 points)

Applicants must demonstrate that they are eligible to compete for an award on the basis of eligibility criteria established in this solicitation.

1. Organizational Experience.

Applicants must concisely describe their experience with respect to the eligibility criteria. Applicants must demonstrate how their experience and capabilities will enable them to achieve the goals and objectives of this initiative.

2. Capability of Working With Other Organizations in the State.

Applicants must demonstrate that they have discussed this program with local and State elected public officials or their staffs; the Wyoming State Advisory Group; the Wyoming Department of Family Services, Division of Juvenile Services; key decisionmakers in the juvenile justice system such as juvenile court judges, associations of those involved in juvenile justice, the boards of public and private youth service providers; and other groups whose cooperation or participation is essential to the success of the program. The applicant must describe how it will be able to obtain the aforementioned cooperation or participation.

3. Financial Capability.

OJP procedures require each private nonprofit applicant to demonstrate that its organization has or can establish fiscal controls and accounting procedures that ensure that Federal funds available under this announcement are disbursed and accounted for properly.

Budget (10 points)

The proposed 24-month budget must be complete, detailed, reasonable, allowable, and cost effective in relation to the activities to be undertaken.

Format

The narrative portion of this application (excluding forms, assurances, and appendixes), must not exceed 25 pages and must be submitted on 8½- by 11-inch paper, double spaced on one side in a standard 12-point font. The double-spacing requirement applies to all parts of the program narrative, including any lists, bulleted items, tables, or quotations. These standards are necessary to maintain fair and uniform consideration of all applicants. If the narrative does not conform to these standards, OJJDP will deem the application ineligible for consideration.

Award Period

This project will be funded as a cooperative agreement for a 2-year budget and project period.

Award Amount

A cooperative agreement in the amount of $1,851,050 is available for the 2-year budget and project period.

Catalog of Federal Domestic Assistance (CFDA) Number

For this program, the CFDA number, which is required on Standard Form 424 is 16.541. This form and other required forms and instructions are included in the 2001 OJJDP Application Kit available from the Juvenile Justice Clearinghouse at 800-638-8736. The Kit is also available on OJJDP's Web site at http://www.ncjrs.org/pdffiles1/ojjdp/s1000480.pdf.

Coordination of Federal Efforts

To encourage better coordination among Federal agencies in addressing State and local needs, the U.S. Department of Justice (DOJ) is requiring applicants to provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose.

The term “related efforts” is defined for these purposes as one of the following:

1. Efforts for the same purpose (i.e., the proposed award would supplement, expand, complement, or continue activities funded with other Federal grants).

2. Another phase or component of the same program or project (e.g., to implement a planning effort funded by other Federal funds or to provide a substance abuse treatment or education component within a criminal justice project).

3. Services of some kind (e.g., technical assistance, research, or evaluation) to the program or project described in the application.

Delivery Instructions

All application packages must be mailed or delivered to the State and Tribal Assistance Division, Office of Juvenile Justice and Delinquency Prevention, 810 Seventh Street, NW., Washington, DC 20531; 202-307-5924. (Note that this address is different from the one listed in the 2001 OJJDP Application Kit.) Faxed or e-mailed applications will not be accepted. Note: In the lower left-hand corner of the envelope, applicants must clearly write “Nonparticipating State Program, Wyoming.”

Due Date

Applicants are responsible for ensuring that the original and five copies of the application package are received by 5 p.m. ET on November 21, 2001.

Contact

For further information, contact Timothy S. Wight, Compliance Monitoring Coordinator, State and Tribal Assistance Division, 202-307-5924, or send an e-mail inquiry to WightT@ojp.usdoj.gov.

Dated: October 16, 2001.
Terrence S. Donahue,
Acting Administrator, Office of Juvenile Justice and Delinquency Prevention.

[FR Doc. 01-26540 Filed 10-19-01; 8:45 am]

BILLING CODE 4410-18-P